DEPARTMENT OF COMMERCE

Foreign-Trade Zones Board

(Docket 61-2005)

Foreign-Trade Zone 35 -- Philadelphia, Pennsylvania, Expansion of Facilities -- Subzone 35B, Merck & Company, Inc., (Pharmaceutical Products), West Point, Pennsylvania

An application has been submitted to the Foreign-Trade Zones Board (the Board) by the Philadelphia Regional Airport Authority, grantee of FTZ 35, requesting to expand the subzone (Subzone 35B) at the Merck & Company, Inc. (Merck) facility in West Point, Pennsylvania. The application was submitted pursuant to the Foreign-Trade Zones Act, as amended (19 U.S.C. 81a-81u), and the regulations of the Board. It was formally filed on December 7, 2005.

Subzone 35B was approved by the Board on November 14, 1994 at a single site (106 bldgs./6,317,280 sq. ft. on 405 acres) located at Sunneytown Pike and Broad Street, in West Point (Montgomery County), Pennsylvania, with authority granted for the manufacture of finished pharmaceuticals (Board Order 708, 59 FR 60604, 11/25/94), and expanded on 4/5/01 (Board Order 1153, 66 FR 19918, 4/18/01). Merck is now proposing to expand production capacity under FTZ procedures by adding 168 buildings totaling 1,227,192 sq. ft. but reducing total acreage by 8 acres. The expanded subzone would then include 274 buildings consisting of 7,544,472 sq. ft. on 397 acres.

In accordance with the Board's regulations, a member of the FTZ staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW, Washington, DC 20005; or,

2. Submissions via the U.S. Postal Service: Foreign-Trade Zones Board, U.S. Department of Commerce, FCB-Suite 4100W, 1401 Constitution Avenue, NW, Washington, DC 20230.

The closing period for their receipt is February 13, 2006. Rebuttal comments in response to material submitted during the foregoing period may be submitted during the subsequent 15-day period (to February 28, 2006).

A copy of the application and accompanying exhibits will be available during this time for public inspection at address Number 1 listed above, and at the U.S. Department of Commerce, Export Assistance Center, The Curtis Center, Suite 580 West, 601 Walnut Street, Independence Square West, Philadelphia, PA 19106.

Dated: December 8, 2005.
Dennis Puccinelli,
Executive Secretary.

[FR Doc. 05-24086 Filed 12-14-05; 8:45 am]

BILLING CODE 3510-DS-S